DEPARTMENT OF THE INTERIOR

Bureau of Land Management

[NMNM 103446]

Public Land Order No. 7479; Withdrawal of National Forest System Land for Guadalupe Cave Resource Protection Area; New Mexico

AGENCY: Bureau of Land Management, Interior.

ACTION: Public land order.

SUMMARY: This order withdraws 27,299.50 acres of National Forest System land from mining and mineral leasing, for 20 years to protect the Guadalupe Cave Resource Protection Area.

EFFECTIVE DATE: January 22, 2001.

FOR FURTHER INFORMATION CONTACT: Jeanette Espinosa, BLM New Mexico State Office, P.O. Box 27115, Santa Fe, New Mexico 87502-0115, 505-438-7597.

By virtue of the authority vested in the Secretary of the Interior by Section 204 of the Federal Land Policy and Management Act of 1976, 43 U.S.C. 1714 (1994), it is ordered as follows:

1. Subject to valid existing rights, the following described National Forest System land is hereby withdrawn from location and entry under the United States mining laws (30 U.S.C. Ch. 2 (1994)), and from leasing under the mineral leasing laws (30 U.S.C. 181 et seq. and 30 U.S.C. 351 et seq. (1994)), to protect the Guadalupe Cave Resource Protection Area.:

New Mexico Principal Meridian

Lincoln National Forest

T. 25 S., R. 21 E.,

Sec. 36, lot 4, S½SW¼, and SW¼SE¼.

T. 26 S., R. 21 E.,

Sec. 1;

Sec. 2, E½;

Sec. 10, SE¼SE¼;

Sec. 11, E½ and SW¼;

Secs. 12, 13, and 14;

Sec. 15, E½, S½ NW¼, and SW¼;

Sec. 16, S½SE¼;

Sec. 20, SE¼;

Secs. 21 to 28, inclusive;

Sec. 29, E½;

Sec. 32, lots 1 and 2, and N½ NE¼;

Sec. 33, lots 1 to 4, inclusive, and N½N½;

Sec. 34, lots 1 to 4, inclusive, and N½N½;

Sec. 35, lots 1 to 4 inclusive, and N½N½;

Sec. 36, lots 1 to 4, inclusive, and N½N½.

T. 25 S., R. 22 E.,

Sec. 13, S½;

Sec. 14, S½;

Sec. 15, S½ and NW¼;

Sec. 16, S½ and NE¼;

Sec. 20, SE¼SW¼ and SE¼; secs. 21 to 29, inclusive;

Sec. 31, E½, E½W½, and SW¼SW¼;

Sec. 32, 33, and 34.

T. 26 S., R. 22 E., secs. 3, 4, and 5;

Sec. 6, lots 1 to 4, inclusive, E½, and E½W½;

Sec. 7, lots 1 to 4, inclusive, E½, and E½W½; secs. 8, 9, 10, 15, 16, and 17;

Sec. 18, lots 1 to 4, inclusive, E½, and E½W½.

The area described contains approximately 27,299.50 acres in Eddy County.

2. This withdrawal will expire 20 years from the effective date of this order unless, as a result of a review conducted before the expiration date pursuant to Section 204(f) of the Federal Land Policy and Management Act of 1976, 43 U.S.C. 1714(f) (1994), the Secretary determines that the withdrawal shall be extended.

Dated: January 16, 2001.
Sylvia V. Baca,
Assistant Secretary of the Interior.

[FR Doc. 01-1817 Filed 1-19-01; 8:45 am]

BILLING CODE 3410-11-P